COUNCIL ON ENVIRONMENTAL QUALITY

Instructions for Implementing Climate Change Adaptation Planning in Accordance With Executive Order 13514

AGENCY: Council on Environmental Quality.

ACTION: Notice of Availability of Climate Change Adaptation Planning Implementing Instructions.

SUMMARY: The Chair of the Council on Environmental Quality (CEQ) is issuing instructions to Federal agencies for integrating climate change adaptation into agency policies and practices, as required under Executive Order 13514 (“Executive Order” or “E.O. 13514”), “Federal Leadership in Environmental, Energy, and Economic Performance,” signed by President Obama on October 5, 2009. 74 FR 52117, Oct. 8, 2009. The purpose of the Executive Order is to establish an integrated strategy toward sustainability in the Federal Government and to make reduction of greenhouse gas emissions a priority for Federal agencies. Section 5(b) of E.O. 13514 directs the Chair of CEQ to issue instructions to implement the Executive Order. The Instructions for Implementing Climate Change Adaptation Planning are now available at: http://www.whitehouse.gov/administration/eop/ceq/initiatives/adaptation.

DATES: The Instructions for Implementing Climate Change Adaptation Planning are available as of March 4, 2011.

ADDRESSES: The Instructions for Implementing Climate Change Adaptation Planning are available at: http://www.whitehouse.gov/administration/eop/ceq/initiatives/adaptation.

FOR FURTHER INFORMATION CONTACT: Michelle Moore, Federal Environmental Executive, Office of the Federal Environmental Executive, 202-395-5750.

SUPPLEMENTARY INFORMATION: Federal agencies are required, under Section 16 of E.O. 13514, to integrate climate change adaptation into agency policies and practices. Section 5(b) of E.O. 13514 authorizes the Chair of the Council on Environmental Quality (CEQ) to issue instructions to implement the Executive Order. The “Instructions for Implementing Climate Change Adaptation Planning” provide formal direction from the Chair of CEQ to Federal agencies on how to integrate climate change adaption into Federal agency planning, operations, policies, and programs.

These risk management instructions provide Federal agencies and programs with practical direction on how to assess risks and identify opportunities to improve performance and resource efficiency posed by the changing climate. With this gained knowledge, Federal agencies can ensure that Federal resources are invested wisely and that Federal services and operations remain effective as the century progresses. The instructions are written to allow adaptation planning to occur within existing agency management frameworks and budgets. The instructions apply only to Federal agencies, operations, and programs. The instructions should be considered mandatory, and agencies are expected to implement them as part of their compliance with E.O. 13514.

Authority: E.O. 13514, 74 FR 52117.

Dated: March 4, 2011.
Nancy H. Sutley,
Chair.

[FR Doc. 2011-5405 Filed 3-8-11; 8:45 am]

BILLING CODE 3125-W0-P